Title 3—

The President

Proclamation 8123 of April 11, 2007

National D.A.R.E. Day, 2007

By the President of the United States of America

A Proclamation

Each year, Drug Abuse Resistance Education (D.A.R.E.) teaches millions of children across our country how to resist drugs and violence. On National D.A.R.E. Day, we honor the individuals who help our Nation's young people avoid the dangers of substance abuse and become productive citizens.

For more than two decades, D.A.R.E. programs have taught America's youth about the devastating effects of drug use and encouraged them to lead drug-free and violence-free lives of purpose. By opening the lines of communication between law enforcement, educators, and students, all those involved in D.A.R.E. help save lives and stop drug use before it starts.

My Administration is dedicated to fighting drug use throughout our country. The National Youth Anti-Drug Media Campaign is working with the Partnership for a Drug-Free America to teach our youth about resisting the pressure to use drugs. Additionally, the Helping America's Youth initiative, led by First Lady Laura Bush, encourages community partnerships that bring together families, faith-based and community organiza- tions, and schools to help make a positive impact on the lives of young people. Through the Strategic Prevention Framework and the Drug Free Communities Program, we are also helping communities to develop effective local strategies to prevent substance abuse. By working together, we can reduce illicit drug use and help every child realize the promise of our country.

Youth development programs like D.A.R.E. encourage our Nation's children to make healthy choices that lead to a better future. This year's National D.A.R.E. day is an opportunity to renew our commitment to building strong, drug-free communities.

NOW, THEREFORE, I, GEORGE W. BUSH, President of the United States of America, by virtue of the authority vested in me by the Constitution and laws of the United States, do hereby proclaim April 12, 2007, as National D.A.R.E. Day. I urge all young people to make good decisions and call upon all Americans to recognize our collective responsibility to combat every form of drug abuse and to support all those who work to help our children avoid drug use and violence.

IN WITNESS WHEREOF, I have hereunto set my hand this eleventh day of April, in the year of our Lord two thousand seven, and of the Independence of the United States of America the two hundred and thirty-first.

[FR Doc. 07-1910

Filed 4-13-07; 11:49 am]

Billing code 3195-01-P